OFFICE OF SPECIAL COUNSEL

Agency Information Collection Activities, Request for Comment

AGENCY: Office of Special Counsel.

ACTION: Second Notice.

SUMMARY: In accordance with the Paperwork Reduction Act of 1995 (44 U.S.C. Chapter 35), the U.S. Office of Special Counsel (OSC), plans to request approval from the Office of Management and Budget (OMB) for use of an expanded version of an approved information collection consisting of an electronic customer survey form. OSC is required by law to conduct an annual survey of those who seek its assistance. The information collection is used to carry out that mandate. However, the additional questions for the survey cover a category of complaint, whistleblower disclosures, whose inclusion in the survey is not statutorily required, but rather is being done voluntarily by our agency. The 6 specific questions to be added are: “Did the agency against which you filed the disclosure inform you about your right to make whistleblower disclosures, and the channels for making such disclosures?” “Did you obtain the action that you wanted from OSC?” “What reason did OSC give for closing your disclosure matter?” (Check all that apply.)” “Did you agree with the reason OSC gave for closing your disclosure matter?” “If you answered “no” to the question in number 4 above, could you please elaborate? [below which is a free field text box].” “How would you rate the service provided by OSC in each of the following areas?” The current OMB approval for this collection of information [without the new questions for the Disclosure Unit] does not expire until 10/31/2015.

Current and former Federal employees, employee representatives, other Federal agencies, state and local government employees, and the general public are invited for a second time to comment on this information collection. Comments are invited on: (a) whether the proposed collection of information is necessary for the proper performance of OSC functions, including whether the information will have practical utility; (b) the accuracy of OSC's estimate of the burden of the proposed collections of information; (c) ways to enhance the quality, utility, and clarity of the information to be collected; and (d) ways to minimize the burden of the collection of information on respondents, including through the use of automated collection techniques or other forms of information technology.

DATES: Comments should be received by September xx, 2014.

FOR FURTHER INFORMATION CONTACT: Karl Kammann, Director of Finance, at 1730 M St. NW., Suite 300, Washington, DC 20036, or by facsimile at (202) 254-3711.

SUPPLEMENTARY INFORMATION: OSC is an independent agency responsible for, among other things, (1) investigation of allegations of prohibited personnel practices defined by law at 5 U.S.C. 2302(b), protection of whistleblowers, and certain other illegal employment practices under titles 5 and 38 of the U.S. Code, affecting current or former Federal employees or applicants for employment, and covered state and local government employees; and (2) the interpretation and enforcement of Hatch Act provisions on political activity in chapters 15 and 73 of title 5 of the U.S. Code, and implementing regulations concerning the controlling of paperwork burdens on the public, found at 5 CFR part 1320.

Title of Collection: Office of Special Counsel (OSC) Annual Survey; OMB Control Number 3255-0003.

OSC is required to conduct an annual survey of individuals who seek its assistance. Section 13 of 103 (1994), codified at 5 U.S.C. 1212 note, states, in part: “[T]he survey shall—(1) Determine if the individual seeking assistance was fully apprised of their rights; (2) determine whether the individual was successful either at the Office of Special Counsel or the Merit Systems Protection Board; and (3) determine if the individual, whether successful or not, was satisfied with the treatment received from the Office of Special Counsel.” The same section also provides that survey results are to be published in OSC's annual report to Congress. Copies of prior years' annual reports are available on OSC's Web site, at http://www.osc.gov/RR_AnnualReportsToCongress.htm or by calling OSC at (202) 254-3600.

The survey form for the collection of information is available for review by calling OSC at (202) 254-3600.

Affected Public: Current and former Federal employees, applicants for Federal employment, state and local government employees, and their representatives, and the general public.

Respondent's Obligation: Voluntary.

Estimated Annual Number of Survey Form Respondents: 415.

Frequency of Survey Form Use: Annual.

Estimated Average Amount of Time for a Person To Respond to Survey: 12 minutes.

Estimated Annual Survey Burden: 141 hours.

This survey form is used to survey current and former Federal employees and applicants for Federal employment who have submitted allegations of possible prohibited personnel practices or other prohibited activity for investigation and possible prosecution by OSC, and whose matter has been closed or otherwise resolved during the prior fiscal year, on their experience at OSC. Specifically, the survey asks questions relating to whether the respondent was: (1) Apprised of his or her rights; (2) successful at the OSC or at the Merit Systems Protection Board; and (3) satisfied with the treatment received at the OSC.

Dated: August 18, 2014.
Carolyn N. Lerner,
Special Counsel.

[FR Doc. 2014-20056 Filed 8-22-14; 8:45 am]

BILLING CODE 7405-01-P